NATIONAL SCIENCE FOUNDATION

Advisory Committee for Environmental Research and Education Notice of Meeting

In accordance with the Federal Advisory Committee Act (Pub. L. 92-463, as amended), the National Science Foundation announces the following meeting:

Name: Advisory Committee for Environmental Research and Education (9487).

Dates: March 5, 2014-March 6, 2014, 8:30 a.m.-5:00 p.m.

Place: Stafford I, Room 1235, National Science Foundation, 4201 Wilson Blvd., Arlington, Virginia 22230.

Type of Meeting: Open.

Contact Person: Linda A. Deegan, National Science Foundation, 4201 Wilson Blvd., Arlington, Virginia 22230, Phone 703-292-7870.

Minutes: May be obtained from the contact person listed above.

Purpose of Meeting: To provide advice, recommendations, and oversight concerning support for environmental research and education.

Agenda

March 5

• Update on recent NSF environmental activities

• Update on NSF's efforts on Broader Impacts (Dr. Ward)

• Report out to AC from Food Systems working group

• Discussion of NSF Research Portfolio for Science, Engineering and Education for Sustainability (SEES)

March 6

• Discussion of NSF Research Portfolio for Science, Engineering and Education for Sustainability (SEES) (continued if needed)

• Meeting with the Director

Dated: February 3, 2014.
Suzanne Plimpton,
Acting Committee Management Officer.

[FR Doc. 2014-03268 Filed 2-13-14; 8:45 am]

BILLING CODE 7555-01-P